GENERAL SERVICES ADMINISTRATION

[Notice-ID-2023-09; Docket No. 2023-0002; Sequence No. 16]

Privacy Act of 1974; System of Records

AGENCY: Office of the Chief Privacy Officer, General Services Administration (GSA).

ACTION: Notice of a modified system of records.

SUMMARY: GSA proposes to modify a system of records subject to the Privacy Act of 1974, as amended. GSA is updating the outdated following systems: Policies and Practices for Storage of Records, Policies and Practices for Retrieval of records, and documented the Policies and Practice for Retention and Disposal of records.

DATES: Submit comments on or before August 21, 2023. The new and/or significantly modified routine uses will be applicable on August 21, 2023.

ADDRESSES: Submit comments identified by “Notice-ID-2023-09, Modify System of Records” via http://www.regulations.gov. Search regulations.gov for Notice-ID-2023-09, Modified System of Records Notice. Select the link “Comment” that corresponds with “Notice-ID-2023-09, Modified System of Records Notice.” Follow the instructions provided on the screen. Please include your name, company name (if any), and “Notice-ID-2023-09, Modified System of Records Notice” on your attached document. If your comment cannot be submitted using regulations.gov, call or email the points of contact in the FOR FURTHER INFORMATION CONTACT section of this document for alternate instructions.

FOR FURTHER INFORMATION CONTACT: Call or email Richard Speidel, the GSA Chief Privacy Officer (Office of the Deputy Chief Information Officer): telephone 202-969-5830; email gsa.privacyact@gsa.gov.

SUPPLEMENTARY INFORMATION: GSA proposes to modify a system of records subject to the Privacy Act of 1974, 5 U.S.C. 552a. This notice is regarding the Agency's update to Policies and Practices for Storage of Records, Policies and Practices for Retrieval of records, and documented the Policies and Practice for Retention and Disposal of records because they are outdated.

SYSTEM NAME AND NUMBER:

Employee-related files, GSA/Agency-1.

SECURITY CLASSIFICATION:

Unclassified.

SYSTEM LOCATION:

GSA owns the system. The system of records may be located at the supervisory or administrative office level at all GSA facilities and at commissions, committees, and small agencies serviced by GSA.

SYSTEM MANAGER(S):

Director, Office of Human Resources Management (OHRM), GSA, 1800 F Street NW, Washington, DC 20405. Email at cxo@gsa.gov.

AUTHORITY FOR MAINTENANCE OF THE SYSTEM:

Authority for the system comes from the Federal Property and Administrative Services Act of 1949 (63 Stat. 377); title 5 U.S.C. and title 31 U.S.C., generally; and Executive Order (E.O.) 12953, February 27, 1995.

PURPOSE(S) OF THE SYSTEM:

The purpose of this system is to maintain personnel record system covering employees and uncompensated workers. The system is used to initiate personnel actions, schedule training, counsel employees on their performance, propose disciplinary action, and manage personnel in general.

CATEGORIES OF INDIVIDUALS COVERED BY THE SYSTEM:

The individuals covered are as follows;

• Present and Former Employees of GSA and of Commissions

• Committees

• Small Agencies Serviced by GSA

• Applicants or Potential Applicants for Positions in GSA, Persons Employed by Other Agencies for Employee Relief Bills

• Volunteer Workers

• Uncompensated Workers

CATEGORIES OF RECORDS IN THE SYSTEM:

The system records contain the following;

• Individual's Name

• Social Security Number

• Birth Date

• Home and Emergency Addresses and Telephone Numbers

• Employee ID number

• Personnel Actions

• Professional Registration

• Qualifications

• Training

• Employment History

• Awards

• Counseling

• Reprimands

• Grievances

• Appeals

• Leave

• Pay Attendance

• Work Assignments

• Performance Ratings

• Injuries

• Parking Permit and Pass Applications

• Unpaid Debt Complaints (including nonpayment of child support)

• Travel

• Outside Employment

• Congressional Employee Relief Bills

• Telephone Call Details.

The system does not include official personnel files covered by OPM/GOVT-1.

RECORD SOURCE CATEGORIES:

The sources for the information are individuals themselves, other employees, personnel records, and persons who have complained of unpaid debts, including nonpayment of child support.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside GSA as a routine use pursuant to 5 U.S.C. 552a(b)(3) as follows:

a. To disclose information to a Federal, State, local, or foreign agency responsible for investigating, prosecuting, enforcing or carrying out a statute, rule, regulation, or order where GSA becomes aware of a violation or potential violation of civil or criminal law or regulation.

b. To disclose information to another Federal agency or a court when the Government is a party to a judicial proceeding.

c. To disclose requested information to a Federal agency in connection with hiring or retaining an employee; issuing a security clearance; reporting an employee investigation; clarifying a job; letting a contract; or issuing a license, grant, or other benefit by the requesting agency when the information is needed for a decision.

d. To disclose information to the Merit Systems Protection Board, including its Office of Special Counsel; the Federal Labor Relations Authority and its general counsel; or the Equal Employment Opportunity Commission in performing their duties.

e. To disclose information to the Federal Parent Locator Service to assist in locating an absent parent and enforce child support obligations against a delinquent parent. This includes routinely cross-matching Federal personnel records with State records of persons who owe child support to learn if there are any Federal employees delinquent in supporting a dependent child.

f. To disclose information to an appeal, grievance, or formal complaints examiner; equal employment opportunity investigator; arbitrator; union representative; or other official engaged in investigating or settling a grievance, complaint, or appeal filed by an employee.

g. To disclose information to the Office of Personnel Management (OPM) under the agency's responsibility for evaluating Federal personnel management. When personnel records in the custody of GSA are covered in a record system published by OPM as a Governmentwide record system, they are considered part of that system. Other personnel record systems covered by notices published by GSA as separate systems may also be transferred to OPM as a routine use.

h. To disclose information to a Member of Congress or to a congressional staff member in response to a request from the person who is the subject of the records.

i. To disclose information to an expert, consultant, or contractor of GSA in performing a Federal duty.

j. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORAGE OF RECORDS:

Records in this system of records are stored electronically in secure facilities. Electronic records are stored on GSA's secure network which is managed by the Office of GSA IT.

POLICIES AND PRACTICES FOR RETRIEVAL OF RECORDS:

Records are retrieved by an individual's name, employee ID number, or social security number.

POLICIES AND PRACTICES FOR RETENTION AND DISPOSAL OF RECORDS:

Record disposal is controlled by the GSA directive, “Records Management Program”, CIO 1820.2. Applicable records series include the following and contain associated records disposition authorities key to employee-related records:

GRS 2.1—Employee Acquisition Records

GRS 2.2—Employee Management Records

GRS 2.3—Employee Relations Records

GRS 2.4—Employee Compensation and Benefits Records

GRS 2.5—Employee Separation Records

GRS 2.6—Employee Training Records

GRS 2.7—Employee Health and Safety Records

GRS 2.8—Employee Ethics Records

GSA 269.16—Human Resource Records

The records are reviewed and updated yearly, and records past their disposition date are destroyed. Once paper originals and copies are purged from the official personnel folder, no other paper copies are kept. When the employee transfers or separates from the agency, records are promptly sent to the office that is to maintain the official personnel folder. The records are screened to ensure that nothing is missing.

ADMINISTRATIVE, TECHNICAL, AND PHYSICAL SAFEGUARDS:

Records in the system are protected from unauthorized access and misuse through a combination of administrative, technical and physical security measures. Administrative measures include but are not limited to policies that limit system access to individuals within an agency with a legitimate business need, and regular review of security procedures and best practices to enhance security. Technical measures include but are not limited to system design that allows authorized system users access only to data for which they are responsible; required use of strong passwords that are frequently changed; and use of encryption for certain data transfers. Physical security measures include but are not limited to the use of data centers which meet government requirements for storage of sensitive data.

RECORD ACCESS PROCEDURES:

An individual request to review a record can be addressed to the supervisor, team leader, or official at the address where the employee worked. If that is unknown, a general request can be addressed to the head of the service or staff office for Central Office employees, or to the regional administrator at the address given in the appendix to this notice. For the identification required, see 41 CFR part 105-64 published in the Federal Register (https://www.ecfr.gov/current/title-41/subtitle-C/chapter-105/part-105-64).

CONTESTING RECORD PROCEDURES:

The GSA procedures for contesting the content of a record and appealing an initial denial of a request to access or amend a record may be found in 41 CFR part 105-64. If an individual wishes to contest the content of any record pertaining to him or her in the system after it has been submitted, that individual should consult the GSA's Privacy Act implementation rules available at 41 CFR part 105-64.4.

NOTIFICATION PROCEDURES:

An individual who wishes to be notified whether the system contains a record related to him- or herself should address an inquiry to the supervisor or team leader where the employee worked. If that is unknown, general requests can be addressed to the head of the service or staff office for Central Office employees, or to the regional administrator for regional office employees at the address listed in the appendix (https://www.ecfr.gov/current/title-41/subtitle-C/chapter-105/part-105-64).

EXEMPTIONS PROMULGATED FOR THE SYSTEM:

None.

HISTORY:

61 FR 60103.

Richard Speidel,
Chief Privacy Officer, Office of the Deputy Chief Information Officer, General Services Administration.

[FR Doc. 2023-15460 Filed 7-20-23; 8:45 am]

BILLING CODE 6820-34-P